DEPARTMENT OF STATE

[Public Notice: 5887]

U.S. Department of State Advisory Committee on Private International Law; Notice of Hearing

The U.S. Department of State Advisory Committee on Private International Law will hold a meeting on Monday October 1, 2007 at the Georgetown University Law Center, 600 New Jersey Avenue, NW., Washington, DC. The meeting will be held on the 12th floor of the Gewirz Building, and will start at 9 a.m. and will end at 5:30 p.m. The meeting will discuss the general “state of the world” developments in International Private Law, including the areas of investment securities law, computer and e-commerce law, international family law including a new convention on child support, judicial assistance and arbitration, e-apostilles and reports on other Private International Law projects.

The meeting is open to the public up to the capacity of the meeting room. Interested persons are invited to attend and to express their views. Persons who cannot attend, but wish to have their views considered are encouraged to submit written comments in advance. Comments should be sent electronically to SmeltzerTK@State.gov. Anyone planning to attend this meeting should provide their name, affiliation and contact information in advance to Trish Smeltzer or Kelly Jones at 202-776-8420 or by e-mail to JonesKL3@State.gov.

Dated: August 7, 2007.
Harold S. Burman,
Executive Director, Department of State.

[FR Doc. E7-16682 Filed 8-22-07; 8:45 am]

BILLING CODE 4710-08-P